DEPARTMENT OF HOMELAND SECURITY

Coast Guard

33 CFR Part 165

[CGD14-07-001]

RIN 1625-AA87

Security Zones; Oahu, Maui, Hawaii, and Kauai, HI

AGENCY: Coast Guard, DHS.

ACTION: Final rule, correction.

SUMMARY: The Coast Guard published a final rule in the Federal Register on August 9, 2007, that revised security regulations in Oahu, Maui, Hawaii, and Kauai, HI (72 FR 44775). While the notice of proposed rulemaking preceding that final rule stated that the Kahe Point, Oahu security zone would be enforced only upon the occurrence of certain events, we did not reflect that provision in the regulatory text. This document corrects that error.

DATES: This correction is effective October 11, 2007.

FOR FURTHER INFORMATION CONTACT: Lieutenant (Junior Grade) Jasmin Parker, U.S. Coast Guard Sector Honolulu at (808) 842-2600.

SUPPLEMENTARY INFORMATION: On June 19, 2007, the Coast Guard published a notice of proposed rulemaking (NPRM) entitled “Security Zones; Oahu, Maui, Hawaii, and Kauai, HI” in the Federal Register (72 FR 33711). That document's preamble specified that the proposed Kahe Point, Oahu security zone would be enforced only upon the occurrence of certain events (72 FR 33712). The proposed regulatory text, however, inadvertently failed to include that zone in § 165.1407(d)(1), which is the list specifying enforcement only under certain conditions (72 FR 33714). The regulatory text in the ensuing final rule (72 FR 44775), which was copied from the published NPRM, perpetuated the error. This document corrects the final regulation by adding the Kahe Point, Oahu security zone to the list in § 165.1407(d)(1) as originally intended.

List of Subjects 33 CFR Part 165

Harbors, Marine safety, Navigation (water), Reports and recordkeeping requirements, Security measures, Waterways.

Accordingly, 33 CFR part 165 is corrected by making the following correcting amendment:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. In § 165.1407, revise the introductory text of paragraph (d)(1) to read as follows:

§ 165.1407 Security Zones; Oahu, HI.

* * * * *

(d) Notice of enforcement or suspension of enforcement of security zones. (1) The security zones described in paragraphs (a)(3) (Kalihi Channel and Keehi Lagoon, Oahu), (a)(4)(i) (Honolulu International Airport, North Section), (a)(4)(ii) (Honolulu International Airport, South Section), (a)(6) (Barbers Point Harbor, Oahu), and (a)(7) (Kahe Point, Oahu) of this section, will be enforced only upon the occurrence of one of the following events—

* * * * *

Dated: September 21, 2007.
Sally Brice-O'Hara,
Rear Admiral, U.S. Coast Guard Commander, Fourteenth Coast Guard District.

[FR Doc. E7-20008 Filed 10-10-07; 8:45 am]

BILLING CODE 4910-15-P